POSTAL REGULATORY COMMISSION

[Docket No. CP2019-224; Docket No. CP2021-33; Docket No. MC2022-101; Docket No. CP2022-105]

Notice Initiating Docket(S) for Recent Postal Service Negotiated Service Agreement Filings

I. Introduction

The Commission gives notice that the Postal Service filed request(s) for the Commission to consider matters related to negotiated service agreement(s). The request(s) may propose the addition or removal of a negotiated service agreement from the market dominant or the competitive product list, or the modification of an existing product currently appearing on the market dominant or the competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

The Commission invites comments on whether the Postal Service's request(s) in the captioned docket(s) are consistent with the policies of title 39. For request(s) that the Postal Service states concern market dominant product(s), applicable statutory and regulatory requirements include 39 U.S.C. 3622, 39 U.S.C. 3642, 39 CFR part 3030, and 39 CFR part 3040, subpart B. For request(s) that the Postal Service states concern competitive product(s), applicable statutory and regulatory requirements include 39 U.S.C. 3632, 39 U.S.C. 3633, 39 U.S.C. 3642, 39 CFR part 3035, and 39 CFR part 3040, subpart B. Comment deadline(s) for each request appear in section II.

II. Docketed Proceeding(s)

1. Docket No(s).: CP2019-224; Filing Title: USPS Notice of Amendment to Priority Mail Express, Priority Mail & First-Class Package Service Contract 66, Filed Under Seal; Filing Acceptance Date: August 23, 2022; Filing Authority: 39 CFR 3035.105; Public Representative: Kenneth R. Moeller; Comments Due: August 31, 2022.

2. Docket No(s).: CP2021-33; Filing Title: USPS Notice of Amendment to Parcel Select Contract 39, Filed Under Seal; Filing Acceptance Date: August 23, 2022; Filing Authority: 39 CFR 3035.105; Public Representative: Christopher C. Mohr; Comments Due: August 31, 2022.

3. Docket No(s).: MC2022-101 and CP2022-105; Filing Title: USPS Request to Add Priority Mail Contract 758 to Competitive Product List and Notice of Filing Materials Under Seal; Filing Acceptance Date: August 23, 2022; Filing Authority: 39 U.S.C. 3642, 39 CFR 3040.130 through 3040.135, and 39 CFR 3035.105; Public Representative: Katalin Clendenin; Comments Due: August 31, 2022.

This Notice will be published in the Federal Register.

Issued: August 24, 2022.
Erica A. Barker,
Secretary.

[FR Doc. 2022-18547 Filed 8-26-22; 8:45 am]

BILLING CODE 7710-FW-P